DEPARTMENT OF THE INTERIOR

Bureau of Reclamation

[RR02800000, 17XR0680A3, RX178689471000000]

Draft Environmental Impact Statement for Shasta Dam Fish Passage Evaluation, California

AGENCY: Bureau of Reclamation, Interior.

ACTION: Notice of intent and scoping meetings.

SUMMARY: The Bureau of Reclamation intends to prepare an Environmental Impact Statement (EIS) for the Shasta Dam Fish Passage Evaluation. The document will evaluate the program that will be used to implement the near-term actions identified under Action V in the National Marine Fisheries Service's 2009 Biological Opinion and Conference Opinion on the Long-Term Operation of the Central Valley Project and State Water Project Reasonable and Prudent Alternative. This EIS will evaluate the near-term actions of reintroducing Federally-listed endangered winter-run Chinook salmon and potentially spring-run Chinook salmon to historical habitats.

DATES: Submit written comments on the scope of the EIS on or before July 21, 2017.

Oral and written comments will also be accepted during two scoping meetings held to solicit public input on alternatives, concerns, and issues to be addressed in the EIS:

1. Tuesday, June 27, 2017, 2-4 p.m., Sacramento, CA.

2. Wednesday, June 28, 2017, 6-8 p.m., Lakehead, CA.

ADDRESSES: Send written comments to Carolyn Bragg, Natural Resources Specialist, Bureau of Reclamation, Bay-Delta Office, 801 I Street, Suite 140, Sacramento, CA 95814-2536; fax to (916) 414-2439; or email at cbragg@usbr.gov.

The scoping meetings will be held at the following locations:

1. Sacramento—Federal Building, Cafeteria Room C-1001, 2800 Cottage Way, Sacramento, CA 95825.

2. Lakehead—Lakehead Lions Club, 20814 Mammoth Drive, Lakehead, CA 96051.

FOR FURTHER INFORMATION CONTACT: Carolyn Bragg, (916) 414-2433, fax (916) 414-2439, or email cbragg@usbr.gov.

SUPPLEMENTARY INFORMATION:

I. Agencies Involved

The Bureau of Reclamation (Reclamation) will invite the following agencies to participate as cooperating agencies for the preparation of the EIS in accordance with the National Environmental Policy Act (NEPA): National Marine Fisheries Service, U.S. Fish and Wildlife Service, U.S. Forest Service, California Department of Fish and Wildlife, California Department of Water Resources, California State Water Resources Control Board, Shasta County, Siskiyou County, and additional Federal and State agencies with jurisdiction in the project area.

II. Why We Are Taking This Action

The National Marine Fisheries Service's 2009 Biological Opinion and Conference Opinion on the Long-term Operation of the Central Valley Project and State Water Project (NMFS BO) concluded that the continued operation of the Central Valley Project and the State Water Project were likely to jeopardize the continued existence of four anadromous species listed under the federal Endangered Species Act: Sacramento River winter-run Chinook salmon (Oncorhynchus tshawytscha), Central Valley spring-run Chinook salmon (Oncorhynchus tshawytscha), California Central Valley steelhead (Oncorhynchus mykiss), and the Southern Distinct Population Segment of North American green sturgeon (Acipenser medirostris). The NMFS BO sets forth a Reasonable and Prudent Alternative (RPA) that if implemented, will allow the Central Valley Project and State Water Project to operate in compliance with the Endangered Species Act.

RPA Action V includes an evaluation of the potential reintroduction of Federally-listed Chinook salmon and steelhead to historical habitats. Shasta Dam Fish Passage Evaluation (SDFPE) is an effort to determine the feasibility of reintroducing winter-run and spring-run Chinook salmon and steelhead to tributaries above Shasta Dam. The SDFPE is separated into near-term and long-term actions. As part of the requirements of the RPA, Reclamation, in coordination with the Interagency Fish Passage Steering Committee, is developing the Pilot Program as an adaptive management process to evaluate the near-term reintroduction of Chinook salmon into historical habitat above Shasta Dam.

Reclamation is focusing the initial near-term goals of re-introducing winter-run and potentially spring-run Chinook salmon upstream of Shasta Dam as the location based on: a) the imperiled status of winter-run Chinook salmon and the resulting urgency to move these fish back into their historical habitats as a means of reducing extinction risk; and b) the good habitat conditions. NMFS requires the use of Federally-listed Sacramento River winter-run Chinook salmon, either from the wild in the Sacramento River and/or the Livingston Stone National Fish Hatchery conservation program in order to meet the goals of RPA Action V.

Reclamation has prepared a Draft Pilot Implementation Plan and an unpublished Preliminary Draft Environmental Assessment for the proposed action, which can be found at https://www.usbr.gov/mp/BayDeltaOffice/shasta-dam-fish-pass.html. The initial analysis conducted indicated uncertainties associated with the resources analyzed. Given these uncertainties, Reclamation has decided to prepare an EIS. If the near-term actions indicate that long-term fish passage of listed salmonids is feasible and practical to implement, then in accordance with RPA Action V, Reclamation will develop and implement a Long-Term Fish Passage Program, which would require additional environmental documentation.

III. Purpose and Need for Action

The range of Sacramento River winter-run Chinook salmon has been reduced by Keswick and Shasta dams on the Sacramento River and by hydroelectric dam development on Battle Creek. Currently, Sacramento River winter-run Chinook salmon spawning is limited to the mainstem Sacramento River downstream of Shasta and Keswick dams where the naturally-spawning population is maintained by cool water releases from the dams. Central Valley spring-run Chinook salmon spawning occurs primarily in other Sacramento River tributaries. The need for the proposed action arises from projections of increased incidences of temperature related impacts to listed anadromous fish, and their resulting vulnerability below Shasta Dam. The purpose of the proposed action is to evaluate the feasibility of establishing self-sustaining populations of listed anadromous fish above Shasta Lake. The Pilot Program seeks to do this by evaluating various aspects of reintroduction including the biological and technological challenges.

IV. Project Area

The project area includes Shasta Lake, the Sacramento River from Shasta Lake upstream to Box Canyon Dam, and the McCloud River from Shasta Lake upstream to McCloud Dam. The project area is within Shasta and Siskiyou Counties.

V. Alternatives To Be Considered

The Preliminary Draft Environmental Assessment included analysis of reasonable alternatives that could potentially be considered to meet the purpose and need of the proposed near-term actions of this EIS under Action V for the reintroduction of Federally-listed Chinook salmon to historical habitats. A habitat assessment was conducted of the mainstem reaches of the Upper Sacramento River and McCloud River as part of the development of the Pilot Implementation Plan. The assessment found good habitat conditions in both watersheds. The Pilot Program includes multiple pilot studies intended to be conducted on a short-term basis to answer questions regarding feasibility of a Long-term Fish Passage Program. The Preliminary Draft Environmental Assessment included analysis of two alternatives; introduction of Federally-listed endangered winter-run Chinook salmon and potentially spring-run Chinook salmon to the Upper Sacramento River and McCloud River in different years and the introduction of Federally-listed endangered winter-run Chinook salmon and potentially spring-run Chinook salmon to both the Upper Sacramento River and the McCloud River at the same time. Additional alternatives may be identified during the scoping process, and potential environmental effects of these alternatives will be evaluated in this EIS. The results of the proposed action will facilitate a determination by the Interagency Fish Passage Steering Committee as to whether it is feasible or practical to implement a full-scale and long-term reintroduction of listed anadromous fish in the watershed above Shasta Lake.

VI. Statutory Authority

National Marine Fisheries Service's 2009 Biological Opinion and Conference Opinion on the Long-Term Operation of the Central Valley Project and State Water Project RPA Action V obligates the U.S. Department of Interior, Bureau of Reclamation, to evaluate the feasibility for the reintroduction of winter-run and spring-run Chinook salmon and steelhead upstream of Shasta, Folsom and New Melones dams. NEPA [42 U.S.C. 4321 et seq.] requires that Federal agencies conduct an environmental analysis of their proposed actions to determine if the actions may significantly affect the human environment. As required by NEPA, Reclamation will analyze in the EIS the potential direct, indirect, and cumulative environmental effects that may result from implementation of the proposed action and alternatives, which may include, but are not limited to, the following areas of potential impact: Surface Water Resources, Hazardous Materials, Fisheries and Aquatic Species, Wildlife, Botanical Resources, Visual, Scenic, or Aesthetic Resources, Air Quality, Noise, Transportation, Public Services, and Utilities, Recreation, Cultural Resources, Socioeconomics, Environmental Justice, Indian Trust Assets and Indian Sacred Sites, Global climate change/greenhouse gas emissions.

VII. Request for Comments

The purposes of this notice are:

• To advise other agencies, potentially affected local governments, tribes, and the public of our intention to gather information to support the preparation of an EIS;

• To obtain suggestions and information from other agencies, interested parties, and the public on the scope of alternatives and issues to be addressed in the EIS; and.

• To identify important issues raised by the public related to the development and implementation of the proposed action.

We invite written comments from interested parties to ensure that the full range of alternatives and issues related to the development of the proposed action are identified. Written comments may be submitted by mail, electronic mail, facsimile transmission or in person listed in the ADDRESSES section of this notice. Comments and participation in the scoping process are encouraged.

VIII. Public Disclosure

Before including your address, phone number, email address, or other personal identifying information in your comment, you should be aware that your entire comment—including your personal identifying information—may be made publicly available at any time. While you can ask us in your comment to withhold your personal identifying information from public review, we cannot guarantee that we will be able to do so.

IX. How To Request Reasonable Accommodation

If special assistance is required at one of the scoping meetings, please contact Carolyn Bragg at the information provided in the FOR FURTHER INFORMATION CONTACT section of this notice, or (TTY) 800-877-8339, at least five working days before the meetings. Information regarding this proposed action is available in alternative formats upon request.

Dated: June 9, 2017.
Pablo R. Arroyave,
Deputy Regional Director, Mid-Pacific Region.

[FR Doc. 2017-12398 Filed 6-14-17; 8:45 am]

BILLING CODE 4332-90-P